DEPARTMENT OF COMMERCE

International Trade Administration

[A-588-046]

Polychloroprene Rubber from Japan; Continuation of Antidumping Duty Order

AGENCY: Import Administration, International Trade Administration, Department of Commerce.

SUMMARY: As a result of the determinations by the Department of Commerce (“the Department”) and the International Trade Commission (“ITC”) that revocation of the antidumping duty order on polychloroprene rubber from Japan would likely lead to continuation or recurrence of dumping and material injury to an industry in the United States, the Department is publishing this notice of continuation of this antidumping duty order.

EFFECTIVE DATE: August 4, 2005.

FOR FURTHER INFORMATION CONTACT: Martha V. Douthit or Dana Mermelstein, AD/CVD Operations, Office 6, Import Administration, International Trade Administration, U.S. Department of Commerce, 14th Street and Constitution Avenue, N.W., Washington, DC 20230; telephone: (202) 482-5050 or (202) 482-1391, respectively.

SUPPLEMENTARY INFORMATION:

Scope of the Order

Merchandise covered by this antidumping duty order is shipments of polychloroprene rubber, an oil resistant synthetic rubber also known as polymerized chlorobutadiene or neoprene, currently classifiable under items 4002.42.00, 4002.49.00, 4003.00.00, 4462.15.21 and 4462.00.00 of the Harmonized Tariff Schedule of the United States (“HTSUS”). Although the HTSUS item numbers are provided for convenience and customs purposes. The written description remains dispositive.

Background

On July 1, 2004, the Department initiated and the ITC instituted sunset reviews of the antidumping duty order on polychloroprene rubber from Japan, pursuant to section 751(c) of the Tariff Act of 1930, as amended (“the Act”).¹ As a result of its review, the Department found that revocation of the antidumping duty order would likely lead to continuation or recurrence of dumping, and notified the ITC of the magnitude of the margins likely to prevail were the order to be revoked.² On July 21, 2005, the ITC determined, pursuant to section 751(c) of the Act, that revocation of the antidumping duty order on polychloroprene rubber from Japan would likely lead to continuation or recurrence of material injury to an industry in the United States within a reasonably foreseeable time.³

¹ See Initiation of Five-Year (“Sunset”) Reviews, 69 FR 39905 (July 1, 2004), and Polychloroprene Rubber from Japan, Investigation No. AA 1921-129 (Second Review), 69 FR 39961 (July 1, 2004).

² See Polychloroprene Rubber from Japan; Final Results of Expedited Sunset Review of Antidumping Duty Finding, 69 FR 64276 (November 11, 2004).

³ See USITC Publication 3786 (June 2005) and Polychloroprene Rubber from Japan, Investigation No. AA1921-129 (Second Review) 70 FR 42101 (July 21, 2005).

Determination

As a result of the determinations by the Department and the ITC that revocation of the antidumping duty order would likely lead to continuation or recurrence of dumping and material injury to an industry in the United States, pursuant to section 751(d)(2) of the Act, the Department hereby orders the continuation of the antidumping duty order on polychloroprene rubber from Japan. U.S. Customs and Border Protection (“CBP”) will continue to collect antidumping duty cash deposits at the rates in effect at the time of entry for all imports of subject merchandise.

The effective date of continuation of this order will be the date of publication in the Federal Register of this Notice of Continuation. Pursuant to section 751(c)(2) of the Act, the Department intends to initiate the next five-year review of these orders not later than July 2010.

This five-year (sunset) review and notice are in accordance with section 751(c) and published pursuant to section 777(i)(1) of the Act.

Dated: July 28, 2005.
Joseph A. Spetrini,
Acting Assistant Secretary for Import Administration.

[FR Doc. E5-4191 Filed 8-3-05; 8:45 am]

BILLING CODE 3510-DS-S